DEPARTMENT OF HOUSING AND URBAN DEVELOPMENT

[Docket No. FR-6019-N-01]

Housing Trust Fund Federal Register Allocation Notice

AGENCY: Office of the Assistant Secretary for Community Planning and Development, HUD.

ACTION: Notice of corrected fiscal year 2016 funding allocations.

SUMMARY: The Housing and Economic Recovery Act of 2008 (HERA) established the Housing Trust Fund (HTF) to be administered by HUD. Pursuant to the Federal Housing Enterprises Financial Security and Soundness Act of 1992 (the Act), as amended by HERA, Division A, eligible HTF grantees are the 50 states, the District of Columbia, the Commonwealth of Puerto Rico, American Samoa, Guam, the Commonwealth of Northern Mariana Islands, and the United States Virgin Islands.

FOR FURTHER INFORMATION CONTACT: Virginia Sardone, Director, Office of Affordable Housing Programs, Room 7164, Department of Housing and Urban Development, 451 Seventh Street SW., Washington, DC 20410-7000; telephone (202) 708-2684. (This is not a toll-free number.) A telecommunications device for hearing- and speech-impaired persons (TTY) is available at 800-877-8339 (Federal Information Relay Service).

SUPPLEMENTARY INFORMATION: Section 1131 of HERA Division A amended the Act to add a new section 1337 entitled “Affordable Housing Allocations” and a new section 1338 entitled “Housing Trust Fund.” HUD's implementing regulations are codified at 24 CFR part 93. In accordance with Section 1338(c)(4)(A) of the Act, this notice announces the formula allocation amount for each eligible HTF grantee.

Congress authorized the HTF with the stated purpose of: (1) Increasing and preserving the supply of rental housing for extremely low-income families with incomes between 0 and 30 percent of area median income and very low-income families with incomes between 30 and 50 percent of area median income, including homeless families, and (2) increasing homeownership for extremely low-income and very low-income families.

Section 1337 of the Act provides for the HTF (and other programs) to be funded with an affordable housing set aside by Fannie Mae and Freddie Mac. The total set-aside amount is equal to 4.2 basis points (.042 percent) of Fannie Mae and Freddie Mac's new mortgage purchases, a portion of which is for the HTF.

Section 1338 of the Act directs HUD to establish, through regulation, the formula for distribution of amounts made available for the HTF. The statute specifies the factors to be used for the formula and priority for certain factors. The factors and methodology HUD uses to allocate HTF funds among eligible grantees are established in the HTF regulation. HTF formula allocations for Fiscal Year 2016 totaling $173,591,160 were announced in the Federal Register on May 5, 2016 (81 FR 27165). After announcing these formula allocations, HUD discovered an error in its calculations for American Samoa, Guam, the Commonwealth of Northern Mariana Islands, and the United States Virgin Islands. HUD allocates HTF resources for these four Insular Areas on a pro rata demographic basis because comparable housing needs data do not exist for such jurisdictions. In determining the Fiscal Year 2016 HTF allocations, HUD inadvertently used renter populations data rather than renter households data, so that the pro rata allocation for each Insular Area was based on the ratio of between its renter population and the national total of renter households. This error inflated the allocations for Insular Areas in the aggregate amount of $120,913. The over-allocation to Insular Areas occurred at the expense of certain states for which allocations were reduced to ensure that other states reached the $3,000,000 minimum. HUD is required to correct the error for the Fiscal Year 2016 HTF grants. Accordingly, the HTF allocations for the Insular Areas are reduced as follows: America Samoa, −$9,567; Guam −$55,330; Northern Marianas, −$23,470; and Virgin Islands, −$32,546. In addition, the formula allocations for 15 states and the Commonwealth of Puerto Rico increased slightly. Appendix A to this notice provides the names and the corrected amounts of the Fiscal Year 2016 HTF awards.

Dated: April 10, 2017.
Clifford Taffet,
General Deputy Assistant Secretary for Community Planning and Development.

Appendix A: FY 2016 Housing Trust Fund Allocation Amounts
Name | Original FY 2016 formula allocation | Corrected FY 2016 formula allocation | Difference | Percent difference (%)
Alabama | $3,000,000.00 | $3,000,000.00 | $0.00 | 0.00
Alaska | 3,000,000.00 | 3,000,000.00 | 0.00 | 0.00
Arizona | 3,000,000.00 | 3,000,000.00 | 0.00 | 0.00
Arkansas | 3,000,000.00 | 3,000,000.00 | 0.00 | 0.00
California | 10,128,144.00 | 10,156,439.59 | 28,295.59 | 0.28
Colorado | 3,000,000.00 | 3,000,000.00 | 0.00 | 0.00
Connecticut | 3,000,000.00 | 3,000,000.00 | 0.00 | 0.00
Delaware | 3,000,000.00 | 3,000,000.00 | 0.00 | 0.00
District of Columbia | 3,000,000.00 | 3,000,000.00 | 0.00 | 0.00
Florida | 4,598,821.00 | 4,607,302.00 | 8,481.00 | 0.18
Georgia | 3,314,612.00 | 3,318,674.00 | 4,062.00 | 0.12
Hawaii | 3,000,000.00 | 3,000,000.00 | 0.00 | 0.00
Idaho | 3,000,000.00 | 3,000,000.00 | 0.00 | 0.00
Illinois | 4,302,012.00 | 4,310,055.00 | 8,043.00 | 0.19
Indiana | 3,000,000.00 | 3,000,000.00 | 0.00 | 0.00
Iowa | 3,000,000.00 | 3,000,000.00 | 0.00 | 0.00
Kansas | 3,000,000.00 | 3,000,000.00 | 0.00 | 0.00
Kentucky | 3,000,000.00 | 3,000,000.00 | 0.00 | 0.00
Louisiana | 3,000,000.00 | 3,000,000.00 | 0.00 | 0.00
Maine | 3,000,000.00 | 3,000,000.00 | 0.00 | 0.00
Maryland | 3,000,000.00 | 3,000,000.00 | 0.00 | 0.00
Massachusetts | 3,419,569.00 | 3,423,773.00 | 4,204.00 | 0.12
Michigan | 3,522,622.00 | 3,527,747.00 | 5,125.00 | 0.15
Minnesota | 3,000,000.00 | 3,000,000.00 | 0.00 | 0.00
Mississippi | 3,000,000.00 | 3,000,000.00 | 0.00 | 0.00
Missouri | 3,000,000.00 | 3,000,000.00 | 0.00 | 0.00
Montana | 3,000,000.00 | 3,000,000.00 | 0.00 | 0.00
Nebraska | 3,000,000.00 | 3,000,000.00 | 0.00 | 0.00
Nevada | 3,000,000.00 | 3,000,000.00 | 0.00 | 0.00
New Hampshire | 3,000,000.00 | 3,000,000.00 | 0.00 | 0.00
New Jersey | 3,733,566.00 | 3,738,267.00 | 4,701.00 | 0.13
New Mexico | 3,000,000.00 | 3,000,000.00 | 0.00 | 0.00
New York | 7,013,963.00 | 7,033,924.00 | 19,961.00 | 0.28
North Carolina | 3,280,235.00 | 3,284,215.00 | 3,980.00 | 0.12
North Dakota | 3,000,000.00 | 3,000,000.00 | 0.00 | 0.00
Ohio | 3,740,578.00 | 3,747,502.00 | 6,924.00 | 0.19
Oklahoma | 3,000,000.00 | 3,000,000.00 | 0.00 | 0.00
Oregon | 3,000,000.00 | 3,000,000.00 | 0.00 | 0.00
Pennsylvania | 3,862,285.00 | 3,868,768.00 | 6,483.00 | 0.17
Rhode Island | 3,000,000.00 | 3,000,000.00 | 0.00 | 0.00
South Carolina | 3,000,000.00 | 3,000,000.00 | 0.00 | 0.00
South Dakota | 3,000,000.00 | 3,000,000.00 | 0.00 | 0.00
Tennessee | 3,000,000.00 | 3,000,000.00 | 0.00 | 0.00
Texas | 4,778,364.00 | 4,789,476.00 | 11,112.00 | 0.23
Utah | 3,000,000.00 | 3,000,000.00 | 0.00 | 0.00
Vermont | 3,000,000.00 | 3,000,000.00 | 0.00 | 0.00
Virginia | 3,139,830.00 | 3,142,439.00 | 2,609.00 | 0.08
Washington | 3,243,721.00 | 3,246,662.00 | 2,941.00 | 0.09
West Virginia | 3,000,000.00 | 3,000,000.00 | 0.00 | 0.00
Wisconsin | 3,004,558.00 | 3,007,084.00 | 2,526.00 | 0.08
Wyoming | 3,000,000.00 | 3,000,000.00 | 0.00 | 0.00
Puerto Rico | 326,054.00 | 327,519.00 | 1,465.00 | 0.45
America Samoa | 12,321.00 | 2,754.00 | −9,567.00 | −77.65
Guam | 77,609.00 | 22,279.00 | −55,330.00 | −71.29
Northern Marianas | 35,735.00 | 12,265.00 | −23,470.00 | −65.68
Virgin Islands | 56,562.00 | 24,016.00 | −32,546.00 | −57.54

[FR Doc. 2017-07487 Filed 4-12-17; 8:45 am]

BILLING CODE 4210-67-P